Executive Order 14304 of June 6, 2025

Leading the World in Supersonic Flight

By the authority vested in me as President by the Constitution and the laws of the United States of America, it is hereby ordered:

Section 1. Purpose. The United States stands at the threshold of a bold new chapter in aerospace innovation. For more than 50 years, outdated and overly restrictive regulations have grounded the promise of supersonic flight over land, stifling American ingenuity, weakening our global competitiveness, and ceding leadership to foreign adversaries. Advances in aerospace engineering, materials science, and noise reduction now make supersonic flight not just possible, but safe, sustainable, and commercially viable. This order begins a historic national effort to reestablish the United States as the undisputed leader in high-speed aviation. By updating obsolete standards and embracing the technologies of today and tomorrow, we will empower our engineers, entrepreneurs, and visionaries to deliver the next generation of air travel, which will be faster, quieter, safer, and more efficient than ever before.

Sec. 2. Regulatory Reform for Supersonic Flight. (a) The Administrator of the Federal Aviation Administration (FAA) shall take the necessary steps, including through rulemaking, to repeal the prohibition on overland supersonic flight in 14 CFR 91.817 within 180 days of the date of this order and establish an interim noise-based certification standard, making any modifications to 14 CFR 91.818 as necessary, as consistent with applicable law. The Administrator of the FAA shall also take immediate steps to repeal 14 CFR 91.819 and 91.821, which will remove additional regulatory barriers that hinder the advancement of supersonic aviation technology in the United States.

(b) Within 18 months of the date of this order, the Administrator of the FAA shall issue a Notice of Proposed Rulemaking (NPRM) to establish a standard for supersonic aircraft noise certification under 14 CFR Part 36 and amend 14 CFR 91.817. The proposed rule shall define acceptable noise thresholds for takeoff, landing, and en-route supersonic operation based on operational testing and research, development, testing, and evaluation (RDT&E) data as identified in subsection 3(a) of this order, and considering community acceptability, economic reasonableness, and technological feasibility. The proposed rule shall further specify a process for periodic review and update of the rule to reflect future advances in aircraft noise reduction technology. Any final rule in connection with the NPRM shall be issued within 24 months of the date of this order.

Sec. 3. Advancing Supersonic Research and Development. (a) The Director of the Office of Science and Technology Policy (OSTP) shall, in consultation with the heads of relevant executive departments and agencies (agencies), including the Secretary of Defense, the Secretary of Commerce, the Secretary of Transportation, and the Administrator of the National Aeronautics and Space Administration, coordinate supersonic research and development through the National Science and Technology Council, with the goal of:

(i) identifying RDT&E needs for regulatory development, commercial viability, and operational integration of supersonic aircraft into the National Airspace System;

(ii) coordinating federally funded RDT&E and industry-led testing of supersonic technologies at Federal test sites; and

(iii) collecting and sharing the results of such RDT&E in a manner suitable for informing domestic regulatory development and international science and technology engagement on civil supersonic matters.

(b) The Director of OSTP shall provide the results of the coordinated efforts in subsection (a) of this section to the Administrator of the FAA to inform the development of future procedures, regulations, and policies, including those related to the certification of civil supersonic aircraft and noise and environmental standards called for in this section 3.

Sec. 4. Promoting International Engagement on Civil Supersonic Flight Regulations. (a) The Secretary of Transportation, acting through the Administrator of the FAA, and in consultation with the Director of OSTP and the heads of other agencies as considered appropriate by the Director of OSTP, shall engage the International Civil Aviation Organization and key foreign partners to seek global alignment regarding supersonic regulatory approaches.

(b) The Administrator of the FAA, under the supervision of the Secretary of Transportation and in coordination with the Secretary of State, shall seek to secure bilateral aviation safety agreements with foreign aviation authorities as necessary for the safe international operation of supersonic aircraft.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Federal Aviation Administration.

THE WHITE HOUSE,

June 6, 2025.

[FR Doc. 2025-10800

Filed 6-10-25; 11:15 am]

Billing code 4910-13-P